DEPARTMENT OF COMMERCE

International Trade Administration

[A-570-891]

Hand Trucks and Certain Parts Thereof from the People's Republic of China: Preliminary Results of Antidumping Duty Administrative Review and Rescission in Part

AGENCY: Import Administration, International Trade Administration, Department of Commerce.

DATES: Effective Date: January 11, 2010.

SUMMARY: The Department of Commerce (the Department) is currently conducting an administrative review of the antidumping duty order on hand trucks and certain parts thereof (hand trucks) from the People's Republic of China (PRC) covering the period December 1, 2007, through November 30, 2008. We preliminarily determine that sales made by Since Hardware (Guangzhou) Co., Ltd. (Since Hardware) were made below normal value (NV). We invite interested parties to comment on these preliminary results. In addition, we are also rescinding this administrative review with respect to New-Tec Integration (Xiamen) Co., Ltd. (New-Tec).

Parties who submit comments are requested to submit with each argument a statement of the issue and a summary of the argument.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On December 2, 2004, the Department published in the Federal Register the antidumping duty order on hand trucks from the PRC. See Notice of Antidumping Duty Order: Hand Trucks and Certain Parts Thereof From the People's Republic of China, 69 FR 70122 (December 2, 2004). On December 1, 2008, the Department published in the Federal Register its notice of opportunity to request an administrative review of the antidumping duty order on hand trucks from the PRC. See Antidumping or Countervailing Duty Order, Finding, or Suspended Investigation; Opportunity to Request Administrative Review, 73 FR 72764 (December 1, 2008). On December 30, 2008, Gleason Industrial Products, Inc., and Precision Products, Inc. (Petitioners) requested that the Department conduct an administrative review of Since Hardware, New-Tec, Qingdao Huatian Hand Truck Co., Ltd. (Huatian), and True Potential Co., Ltd. (True Potential). On February 2, 2009, the Department published in the Federal Register a notice of initiation of the antidumping duty administrative review of hand trucks from the PRC for the period December 1, 2007, through November 30, 2008, with respect to the four companies named above. See Initiation of Antidumping and Countervailing Duty Administrative Reviews and Request for Revocation in Part, 74 FR 5821 (February 2, 2009) (Initiation Notice).

On March 4, 2009, New-Tec provided certification that it had not shipped to the United States any subject merchandise during the period of review (POR), and requested the Department rescind the review with respect to New-Tec. On April 21, 2009, Customs and Border Protection (CBP) posted the Department's no shipments inquiry with respect to New-Tec. See message number 9120201 dated April 21, 2009. The Department received no information in response to that inquiry, and found no evidence of shipments of subject merchandise to the United States by New-Tec during the POR. Therefore the Department published a notice of intent to rescind the review with respect to New-Tec on June 19, 2009. See Notice of Partial Rescission, Intent to Rescind and Extension of Preliminary Results of Antidumping Duty Administrative Review: Hand Trucks and Certain Parts Thereof From the People's Republic of China, 74 FR 29178 (June 19, 2009) (Partial Rescission Notice).

On May 1, 2009, Petitioners withdrew their requests for review of Huatian and True Potential. Because Petitioners were the only party that requested a review of Huatian and True Potential, the Department rescinded the review with respect to these companies on June 19, 2009. See Partial Rescission Notice at 29178.

We issued the standard antidumping duty questionnaire to Since Hardware on May 5, 2009, and received timely responses in June 2009. We issued supplemental questionnaires covering sections A, C, and D of the original questionnaire on July 7, 2009, September 18, 2009, November 6, 2009, and December 16, 2009, and received timely responses to those questionnaires.

Period of Review

The POR covers December 1, 2007, through November 30, 2008.

Scope of the Order

The merchandise subject to this antidumping duty order consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.50.10 of the Harmonized Tariff Schedule of the United States (HTSUS), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular materials measuring less than 5/8 inch in diameter; hand trucks that use motorized operations either to move the hand truck from one location to the next or to assist in the lifting of items placed on the hand truck; vertical carriers designed specifically to transport golf bags; and wheels and tires used in the manufacture of hand trucks.

Non-Market Economy Country Status

In every case conducted by the Department involving the PRC, we have treated the PRC as a non-market economy (NME) country. In accordance with section 771(18)(C)(i) of the Act, any determination that a foreign country is an NME country shall remain in effect until revoked by the administering authority. None of the parties to this proceeding have contested such treatment. Accordingly, we calculated NV in accordance with section 773(c) of the Act, which applies to NME countries.

Separate Rates Determination

A designation of a country as an NME remains in effect until it is revoked by the Department. See section 771(18)(C) of the Act. Accordingly, the Department applies a rebuttable presumption that all companies within the PRC are subject to government control, and thus should be assessed a single antidumping duty rate. It is the Department's policy to assign all exporters of the merchandise subject to review in NME countries a single rate unless an exporter can affirmatively demonstrate an absence of government control, both in law (de jure) and in fact (de facto), with respect to exports. To establish whether a company is sufficiently independent to be entitled to a separate, company-specific rate, the Department analyzes each exporting entity in an NME country under the test established in the Final Determination of Sales at Less than Fair Value: Sparklers from the People's Republic of China, 56 FR 20588 (May 6, 1991), (Sparklers) as amplified by the Notice of Final Determination of Sales at Less Than Fair Value: Silicon Carbide from the People's Republic of China, 59 FR 22585 (May 2, 1994) (Silicon Carbide).

Absence of De Jure Control

Evidence supporting, though not requiring, a finding of de jure absence of government control over export activities includes: (1) an absence of restrictive stipulations associated with the individual exporter's business and export licenses; (2) any legislative enactments decentralizing control of companies; and (3) any other formal measures by the government decentralizing control of companies. See Sparklers, 56 FR at 20589. In this administrative review, Since Hardware submitted a complete response to the separate rates section of the Department's questionnaire. See Since Hardware's June 5, 2009 submission at 5-6. The evidence submitted in the instant review by Since Hardware includes government laws and regulations on corporate ownership and control (i.e., the Company Law and the Foreign Trade Law of the People's Republic of China), individual business licenses, and narrative information regarding the company's operations and selection of management. The evidence Since Hardware provided supports a preliminary finding of an absence of de jure government control over its export activities because: (1) there are no controls on exports of subject merchandise, such as quotas applied to, or licenses required for, exports of the subject merchandise to the United States; and (2) the government of the PRC has passed legislation decentralizing control of companies. See Since Hardware's June 5, 2009 submission at 5-6, and Exhibit 4 and its August 3, 2009 submission at 4 and Exhibit 7.

Absence of De Facto Control

The absence of de facto government control over exports generally is based on whether the respondent: (1) sets its own export prices independent of the government and other exporters; (2) retains the proceeds from its export sales and makes independent decisions regarding the disposition of profits or financing of losses; (3) has the authority to negotiate and sign contracts and other agreements; and (4) has autonomy from the government regarding the selection of management. See Silicon Carbide, 59 FR at 22586-87; Sparklers, 56 FR at 20589; and Final Determination of Sales at Less Than Fair Value: Furfuryl Alcohol From the People's Republic of China, 60 FR 22544, 22545 (May 8, 1995).

In its June 5, 2009, submission, Since Hardware submitted evidence demonstrating an absence of de facto government control over its export activities. Specifically, this evidence indicates: (1) the company sets its own export prices independent of the government and without the approval of a government authority; (2) the company retains the proceeds from its sales and makes independent decisions regarding the disposition of profits or financing of losses; (3) the company has a general manager with the authority to negotiate and bind the company in an agreement; (4) the general manager is selected by the company's board of shareholders, and the general manager appoints the company's management personnel; and (5) there is no restriction on the company's use of export revenues.

Therefore, in the absence of both de jure or de facto government control over Since Hardware's export activities, we preliminarily find that Since Hardware has established prima facie that it qualifies for a separate rate under the criteria established by Silicon Carbide and Sparklers.

Surrogate Country

When the Department investigates imports from an NME country, section 773(c)(1) of the Act directs it to base NV, in most circumstances, on the NME producer's factors of production (FOPs), valued in a surrogate market-economy country or countries considered to be appropriate by the Department. In accordance with section 773(c)(4) of the Act, in valuing the FOPs, the Department shall utilize, to the extent possible, the prices or costs of FOPs in one or more market-economy countries that are at a level of economic development comparable to that of the NME country and are significant producers of comparable merchandise. The sources of the surrogate values we have used in this administrative review are discussed under the “Normal Value” section, below. On February 24, 2009, the Department determined that India, the Philippines, Indonesia, Colombia, Thailand and Peru are countries comparable to the PRC in terms of economic development, and requested comments from interested parties on selecting the appropriate surrogate country for this review. See Letter to All Interested Parties, “Administrative Review of Hand Trucks and Certain Parts Thereof from the People's Republic of China: Surrogate Country List,” dated March 2, 2009, at Attachment 1. No party submitted surrogate country selection comments.

The Department has examined the export levels¹ of subject merchandise from the above-mentioned countries and found that India, Indonesia, Thailand, Colombia, and the Philippines are significant producers of comparable merchandise. See Memorandum from Fred Baker, International Trade Compliance Analyst, to Richard Weible, Office Director, “Antidumping Duty Administrative Review of Hand Trucks and Certain Parts Thereof from the People's Republic of China: Selection of a Surrogate Country,” dated concurrently with this notice (Surrogate Country Memorandum) at 4. However, in selecting the appropriate surrogate country, the Department also examines the availability and reliability of data from the countries deemed to be economically comparable and significant producers of subject merchandise. For a description of our practice, see Department Policy Bulletin No. 04.1: Non-Market Economy Surrogate Country Selection Process (March 1, 2004). India has been the primary surrogate country in numerous past segments for this proceeding. In those past segments, the Department found India's import statistics to be an available and reliable source for surrogate values. See Surrogate Country Memorandum at 4.

¹ The Department was unable to find world production data for subject merchandise and relied on export data as a substitute for overall production.

Therefore, because India: (1) is a significant producer of comparable merchandise; (2) is at a similar level of economic development as the PRC; (3) has publicly available and reliable data, which the Department has previously relied upon for numerous segments of this proceeding, the Department has selected India as the primary surrogate country, pursuant to section 773(c)(4) of the Act. See Surrogate Country Memorandum at 5.

However, for the input “rubber wheels” the Department has been unable to locate a suitable surrogate value from India. The WTA data which we relied upon for the other direct inputs reported the quantity of rubber wheels on a per-piece basis, rather than a weight basis. Thus, because the size of the units involved as reported by WTA data could vary greatly, covering wheels with rims up to two feet in diameter, we do not consider a per-piece measurement a reliable source for valuation in this review. Therefore, we have selected the Philippines as the secondary surrogate country because it reported Philippine imports of rubber wheels on a weight basis. All of the other countries on the Department's list of potential surrogate countries either had no imports of rubber wheels or, like India, reported them on a per-piece basis.

Rescission in Part

As described above, on June 19, 2009, the Department published a notice of intent to rescind the administrative review of New-Tec because it had no shipments. We gave interested parties an opportunity to comment on this preliminary intent. See Preliminary Rescission Notice at 29179. We received no comments. There continues to be no record evidence to suggest New-Tec had shipments or entries of subject merchandise to the United States during the POR. Therefore, in accordance with 19 CFR 351.213(d)(3), we are rescinding the review with respect to New-Tec.

Fair Value Comparisons

To determine whether Since Hardware's sales of subject merchandise to the United States were made at a price below NV, we compared its U.S. price to NV, as described in the “U.S. Price” and “Normal Value” sections of this notice, below.

U.S. Price

We used invoice date as the date of sale because record evidence indicated the terms of Since Hardware's U.S. sales changed following the contract date. See Since Hardware's October 5, 2009 submission at 2-3 and 19 CFR 351.401(i). (The Department will normally use the invoice date as the date of sale.)

In accordance with section 772(a) of the Act, we based U.S. price on the export price (EP) of the sale to the United States by Since Hardware because the first sale to an unaffiliated party was made before the date of importation, and the use of constructed export price was not otherwise warranted. We calculated EP based on the free-on-board (FOB) price to the first unaffiliated purchaser in the United States. For this EP sale, we deducted foreign inland freight and foreign brokerage and handling from the starting price (or gross unit price), in accordance with section 772(c) of the Act. For Since Hardware's U.S. sale, each of these services was provided by an NME vendor. Thus, we based the deduction of these movement charges on surrogate values.

We valued truck freight expenses using a per-unit average rate calculated from data on the following website: http://www.infobanc.com/logistics/logtruck.htm. The logistics section of this website contains inland freight truck rates between many large Indian cities. We used data from this website for four months of the POR for which the website contained data. See Memorandum from Fred Baker, International Trade Compliance Analyst, through Robert James, Program Manager, to the File, “Administrative Review of Hand Trucks and Parts Thereof from the People's Republic of China: Surrogate Values for the Preliminary Results” (Surrogate Values Memorandum) at Exhibit 5.

We valued brokerage and handling using a simple average of the brokerage and handling costs reported in public submissions filed in three antidumping duty cases. Specifically, we averaged the public brokerage and handling expenses reported by Navneet Publications (India) Ltd. in the 2007-2008 administrative review of certain lined paper products from India, Essar Steel Limited in the 2006-2007 antidumping duty administrative review of hot-rolled carbon steel flat products from India, and Himalaya International Ltd. in the 2005-2006 administrative review of certain preserved mushrooms from India. The Department adjusted the average brokerage and handling rate for inflation. See Surrogate Value Memorandum at Exhibit 8.

Our surrogate values for truck freight and for brokerage and handling were in Indian rupees. Therefore, in accordance with section 773A(a) of the Act and 19 CFR 351.415, we converted them to U.S. dollars using the official exchange rate for India recorded on the date of sale of subject merchandise in this case. See http://www.ia.ita.doc.gov/exchange/index.html.

Normal Value

1. Methodology

Section 773(c)(1)(B) of the Act provides that the Department shall determine the NV using an FOP methodology if the merchandise is exported from an NME and the information does not permit the calculation of NV using home-market prices, third-country prices, or constructed value under section 773(a) of the Act. The Department bases NV on FOPs because the presence of government controls on various aspects of NMEs renders price comparisons and the calculation of production costs invalid under the Department's normal methodologies. See Tapered Roller Bearings and Parts Thereof, Finished or Unfinished, From the People's Republic of China: Preliminary Results of Antidumping Duty Administrative Review and Notice of Intent to Rescind in Part, 70 FR 39744 (July 11, 2005), unchanged in Tapered Roller Bearings and Parts Thereof, Finished and Unfinished, from the People's Republic of China: Final Results of 2003-2004 Administrative Review and Partial Rescission of Review, 71 FR 2517 (January 17, 2006).

We calculated NV by adding the value of the FOPs, general expenses, profit, and packing costs. The FOPs for subject merchandise include: (1) quantities of raw materials employed; (2) hours of labor required; (3) amounts of energy and other utilities consumed; (4) representative capital and selling costs; and (5) packing materials. We used the FOPs that Since Hardware reported for materials, energy, labor, and packing, and valued those FOPs by multiplying the amount of the factor consumed in producing subject merchandise by the average unit surrogate value of the factor.

In addition, we added freight costs to the surrogate costs that we calculated for material inputs. We calculated freight costs by multiplying surrogate freight rates by the shorter of the reported distance from the domestic supplier to the factory that produced the subject merchandise or the distance from the nearest seaport to the factory that produced the subject merchandise, as appropriate. Where there were multiple domestic suppliers of a material input, we calculated a weighted-average distance after limiting each supplier's distance to no more than the distance from the nearest seaport to Since Hardware. This adjustment is in accordance with the decision by the Court of Appeals for the Federal Circuit in Sigma Corp. v. United States, 117 F.3d 1401, 1407-1408 (Fed. Cir. 1997).

We also increased the calculated costs of the FOPs for surrogate general expenses and profit. See Surrogate Values Memorandum at Exhibit 7.

2. Selection of Surrogate Values

In selecting surrogate values, we followed, to the extent practicable, the Department's practice of choosing public values which are non-export averages, representative of a range of prices in effect during the POR, or over a period as close as possible in time to the POR, product-specific, and tax-exclusive. See, e.g., Notice of Preliminary Determination of Sales at Less Than Fair Value, Negative Preliminary Determination of Critical Circumstances and Postponement of Final Determination: Certain Frozen and Canned Warmwater Shrimp From the Socialist Republic of Vietnam, 69 FR 42672, 42682 (July 16, 2004), unchanged in Final Determination of Sales at Less Than Fair Value: Certain Frozen and Canned Warmwater Shrimp From the Socialist Republic of Vietnam, 69 FR 71005 (December 8, 2004). We also considered the quality of the source of surrogate information in selecting surrogate values. See Manganese Metal From the People's Republic of China; Final Results and Partial Rescission of Antidumping Duty Administrative Review, 63 FR 12440 (March 13, 1998). Where we could obtain only surrogate values that were not contemporaneous with the POR, we inflated (or deflated) the surrogate values using the Indian wholesale price index (WPI) as published in International Financial Statistics by the International Monetary Fund. See Surrogate Values Memorandum at Exhibit 1.

In calculating surrogate values from import statistics, in accordance with the Department's practice, we disregarded statistics for imports from NME countries and countries deemed to maintain broadly available, non-industry-specific subsidies which may benefit all exporters to all export markets (e.g., Indonesia, South Korea, and Thailand). See, e.g., Final Determination of Sales at Less Than Fair Value: Certain Automotive Replacement Glass Windshields From The People's Republic of China, 67 FR 6482 (February 12, 2002) and accompanying Issues and Decision Memorandum at Comment 1; see also Notice of Preliminary Determination of Sales at Less Than Fair Value, Postponement of Final Determination, and Affirmative Preliminary Determination of Critical Circumstances: Certain Color Television Receivers From the People's Republic of China, 68 FR 66800, 66808 (November 28, 2003), unchanged in Notice of Final Determination of Sales at Less Than Fair Value and Negative Final Determination of Critical Circumstances: Certain Color Television Receivers From the People's Republic of China, 69 FR 20594 (April 16, 2004). Additionally, we excluded from our calculations imports that were labeled as originating from an unspecified country because we could not determine whether they were from an NME country.

Except as noted in the section entitled “Surrogate Country,” above, we valued all direct materials (zinc-galvanized cold-rolled steel plate, zinc-galvanized hot-rolled steel tube, aluminum tube, aluminum parts, PP plastic parts, PVC plastic parts, zinc-galvanized iron clip, lock washer, spring, tapping screw, bolt, nut, rivet, and welding rod) using weighted-average Indian import values derived from the World Trade Atlas online (WTA), for the period December 2007 through November 2008. See Surrogate Values Memorandum at Exhibit 2. We valued rubber wheels using WTA data for imports to the Philippines for the same December 2007 through November 2008 period. Id. In addition, we valued packing material inputs (corrugated paper, plastic strip, label, steel clip, polyethylene plastic sheet, and the instruction manual) with weighted-average Indian import values derived from the WTA for the period December 2007 through November 2008. Id. at Exhibit 4. The Indian import statistics obtained from the WTA were published by the Indian Directorate General of Commercial Intelligence and Statistics, Ministry of Commerce of India, and are contemporaneous with the POR.

Energy inputs consisted of argon gas and electricity. We valued argon gas using weighted-average Indian import values derived from the WTA for the period December 2007 through November 2008. See Surrogate Values Memorandum at Exhibit 3. We valued electricity using price data for small, medium, and large industries, as published by the Central Electricity Authority of the Government of India in its publication titled Electricity Tariff & Duty and Average Rates of Electricity Supply in India, dated March 2008. These electricity rates represent actual country-wide publicly-available information on tax-exclusive electricity rates charged to industries in India. We did not inflate this value because utility rates represent current rates, as indicated by the effective dates listed for each of the rates provided. See Surrogate Value Memorandum at Exhibit 3 for our computation.

We valued truck freight expenses for inputs using the same surrogate data source we used for valuing domestic inland freight for Since Hardware's U.S. sale (i.e., we used data from the website http://www.infobanc.com/logistics/logtruck.htm, which contains inland freight truck rates between many large Indian cities). See Surrogate Values Memorandum at Exhibit 5.

The electricity and truck freight expenses were denominated in Indian rupees. Therefore, in accordance with section 773A(a) of the Act and 19 CFR 351.415, we converted them to U.S. dollars using the official exchange rate for India recorded on the date of sale of subject merchandise in this case. See http://www.ia.ita.doc.gov/exchange/index.html.

The Department's regulations require the use of a regression-based wage rate. See 19 CFR 351.408(c)(3). Therefore, to value labor, the Department used the regression-based wage rate for the PRC published on the Import Administration website. See the IA website at: http://ia.ita.doc.gov/wages/07wages/2009-2007-wages.html#table1.

To value the surrogate financial ratios for factory overhead (OH), selling, general & administrative (SG&A) expenses, and profit, the Department prefers to use contemporaneous, publicly available and subsidy-free financial statements of companies producing comparable merchandise from the surrogate country. For these preliminary results, Department used the 2005-2006 financial statement of Godrej & Boyce Manufacturing Company Limited (Godrej & Boyce), an Indian producer of comparable merchandise. However, Godrej & Boyce's 2005-2006 financial statement does make reference to an unspecified “{i}nvestment subsidy under the Central/State investment incentive scheme.” See Surrogate Values Source Documents, Exhibit 1 at 27. The Department has a general practice to reject the use of certain financial statements where the statements show that the company benefitted from subsidy programs which Commerce has found to be countervailable. See Certain Tissue Paper Products from the People's Republic of China: Final Results and Partial Rescission of the 2007-2008 Antidumping Duty Administrative Review and Determination Not to Revoke in Part, 74 FR 52176 (October 9, 2009). Nevertheless, we have used Godrej & Boyce's 2005-2006 financial statement for these preliminary results because it is the only financial statement available to us and it is unclear if the subsidy mentioned is countervailable. For the final results, we invite interested parties to submit additional financial statements to the record for consideration. We will then examine again whether it is appropriate to use Godrej & Boyce's financial statement to calculate the surrogate financial ratios.

Currency Conversion

We made currency conversions into U.S. dollars, in accordance with section 773A(a) and 19 CFR 351.415 of the Act, based on the exchange rates in effect on the dates of the U.S. sales as certified by the Federal Reserve Bank. These exchange rates can be accessed at the IA website at: http://ia.ita.doc.gov/exchange/index.html.

Preliminary Results of Review

We preliminarily determine that the following dumping margin exists during the period December 1, 2007, through November 30, 2008:

Manufacturer/Exporter | Margin (percent)
Since Hardware (Guangzhou) Co., Ltd. (Since Hardware) | 17.57

Public Comment

In accordance with 19 CFR 351.224(b), the Department will disclose to parties to this proceeding the calculations performed in reaching the preliminary results within five days of publication of these preliminary results. Interested parties may submit written comments (case briefs) within 30 days of publication of the preliminary results and rebuttal comments (rebuttal briefs) within five days after the time limit for filing case briefs. See 19 CFR 351.309(c)(1)(ii) and 351.309(d)(1). Pursuant to 19 CFR 351.309(d)(2), rebuttal briefs must be limited to issues raised in the case briefs. Parties who submit arguments are requested to submit with the case or rebuttal briefs: (1) a statement of the issue; (2) a brief summary of the argument; and (3) a table of authorities. Further, the Department requests that parties submitting written comments provide the Department with a diskette containing the public version of those comments.

Any interested party may request a hearing within 30 days of publication of this notice. See 19 CFR 351.310(c). Interested parties who wish to request a hearing or to participate if one is requested, must submit a written request to the Assistant Secretary for Import Administration within 30 days of publication of this notice. Requests should contain: (1) the party's name, address, and telephone number; (2) the number of participants; and (3) a list of issues to be discussed. See 19 CFR 351.310(c). Issues raised in the hearing will be limited to those raised in the briefs.

Unless the deadline is extended pursuant to section 751(a)(2)(B)(iv) of the Act, the Department will issue the final results of this administrative review, including the results of our analysis of the issues raised by the parties in their comments, within 90 days of publication of these preliminary results.

Assessment Rates

Upon issuing the final results of the review, the Department shall determine, and CBP shall assess, antidumping duties on all appropriate entries. The Department intends to issue assessment instructions to CBP 15 days after the date of publication of the final results of review. Pursuant to 19 CFR 351.212(b)(1), we will calculate importer-specific ad valorem duty assessment rates based on the ratio of the total amount of the dumping duties calculated for the examined sales to the total entered value of those same sales. We will instruct CBP to assess antidumping duties on all appropriate entries covered by this review if any importer-specific assessment rate calculated in the final results of this review is above de minimis. However, the final results of this review shall be the basis for the assessment of antidumping duties on entries of merchandise covered by the final results of this review and for future deposits of estimated duties, where applicable.

Cash Deposit Requirements

The following cash deposit requirements, when imposed, will apply to all shipments of subject merchandise entered, or withdrawn from warehouse, for consumption on or after the publication of the final results of this administrative review, as provided by section 751(a)(2)(C) of the Act: (1) the cash deposit rate for Since Hardware will be the rate established in the final results of this administrative review; (2) for any previously reviewed or investigated PRC or non-PRC exporter, not covered in this administrative review, with a separate rate, the cash deposit rate will be the company-specific rate established in the most recent segment of this proceeding; (3) for all other PRC exporters, the cash deposit rate will continue to be the PRC-wide rate (i.e., 383.60 percent); and (4) the cash-deposit rate for any non-PRC exporter of subject merchandise from the PRC will be the rate applicable to the PRC exporter that supplied that exporter. These cash deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(2)(B) and 777(i) of the Act and 19 CFR 351.214(i).

Dated: December 31, 2009.
Susan H. Kuhbach,
Acting Deputy Assistant Secretary for Import Administration.

[FR Doc. 2010-30 Filed 1-8-10; 8:45 am]

BILLING CODE 3510-DS-S